DEPARTMENT OF COMMERCE

Bureau of the Census

National Advisory Committee

AGENCY: Bureau of the Census, Department of Commerce.

ACTION: Notice of public virtual meeting.

SUMMARY: The Bureau of the Census (Census Bureau) is giving notice of a virtual meeting of the National Advisory Committee (NAC). The Committee will address the results of the 2015 National Content Test on race and ethnicity. The NAC will meet virtually on Monday, October 3, 2016. Last minute changes to the schedule are possible, which could prevent giving advance public notice of schedule adjustments. Please visit the Census Advisory Committees Web site for the most current meeting agenda at: http://www.census.gov/about/cac.html.

DATES: October 3, 2016. The virtual meeting will begin at approximately 1:00 p.m. ET and end at approximately 3:00 p.m. ET.

ADDRESSES: The meeting will be held via WebEx at the following URL link: https://census.webex.com/census/j.php?MTID=m672cd26cdb95b86935763b6bef2f35f9. For audio please call the following phone number: 888-324-3615. When prompted, please use the following password: 7055861.

FOR FURTHER INFORMATION CONTACT: Tara Dunlop Jackson, Advisory Committee Branch Chief, Customer Liaison and Marketing Services Office, tara.t.dunlop@census.gov, Department of Commerce, U.S. Census Bureau, Room 8H177, 4600 Silver Hill Road, Washington, DC 20233, telephone 301-763-5222. For TTY callers, please use the Federal Relay Service 1-800-877-8339.

SUPPLEMENTARY INFORMATION: The NAC was established in March 2012 and operates in accordance with the Federal Advisory Committee Act (Title 5, United States Code, Appendix 2, Section 10). NAC members are appointed by the Director, U.S. Census Bureau, and consider topics such as hard-to-reach populations, race and ethnicity, language, aging populations, American Indian and Alaska Native tribal considerations, new immigrant populations, populations affected by natural disasters, highly mobile and migrant populations, complex households, rural populations, and population segments with limited access to technology. The Committee also advises on data privacy and confidentiality, among other issues.

All meetings are open to the public. A brief period will be set aside at the meeting for public comment on October 3. Individuals with extensive questions or statements must submit them in writing to: census.national.advisory.committee@census.gov (subject line “October 3, 2016 NAC Virtual Meeting Public Comment”), or by letter submission to the Committee Liaison Officer, Department of Commerce, U.S. Census Bureau, Room 8H179, 4600 Silver Hill Road, Washington, DC 20233.

Dated: September 13, 2016.
John H. Thompson,
Director, Bureau of the Census.

[FR Doc. 2016-22783 Filed 9-21-16; 8:45 am]

BILLING CODE 3510-07-P